ENVIRONMENTAL PROTECTION AGENCY

40 CFR Part 300

[FRL-7777-2]

National Oil and Hazardous Substances Pollution Contingency Plan; National Priorities List

AGENCY: Environmental Protection Agency.

ACTION: Notice of intent for a partial deletion of the U.S. Radium Corp. Superfund Site from the National Priorities List.

SUMMARY: The Environmental Protection Agency (EPA) Region 2 Office is issuing this notice of intent to delete the property known as 475 South Jefferson Street in Orange, New Jersey, which is part of Operable Unit Two of the U.S. Radium Corp. Superfund Site, from the National Priorities List (NPL) and requests public comment on this action. The U.S. Radium Corp. Site is listed on the NPL as located in Orange, New Jersey, but is composed of contiguous and non-contiguous properties in the municipalities of Orange, West Orange, and South Orange. The NPL constitutes Appendix B to the National Oil and Hazardous Substances Pollution Contingency Plan (NCP), 40 CFR part 300, which EPA promulgated pursuant to section 105 of the Comprehensive Environmental Response, Compensation, and Liability Act of 1980 (CERCLA), as amended. EPA and the State of New Jersey, through the Department of Environmental Protection, have determined that all appropriate remedial actions related to the U.S. Radium Corp. Site have been completed at 475 South Jefferson Street and no further fund-financed remedial action at this property is appropriate under CERCLA.

In the “Rules and Regulations” section of today's Federal Register, we are publishing a direct final notice of deletion for the property known as 475 South Jefferson Street without prior notice of this action because we consider this is noncontroversial and anticipate no significant adverse comments. We have explained our basis for this deletion in the preamble to the direct final deletion. If we receive no significant comments on this notice of intent to delete, the direct final deletion, or other notices we will issue, we will not take further action on this notice of intent to delete. If we receive significant adverse comment(s), we will withdraw the direct final notice of deletion and it will not take effect. We will, as appropriate, address all public comments. If, after evaluating public comments, EPA decides to proceed with deletion, we will do so in a subsequent final deletion notice based on this notice of intent to delete. Any parties interested in commenting must do so at this time. For additional information, see the direct final notice of deletion which is located in the rules section of the Federal Register.

DATES: Comments concerning the partial deletion of the U.S. Radium Corp. Superfund Site must be received by July 26, 2004.

ADDRESSES: Written comments should be mailed to: Stephanie Vaughn, Remedial Project Manager, New Jersey Remediation Branch, Emergency and Remedial Response Division, U.S. Environmental Protection Agency, Region 2, 290 Broadway, 19th Floor, New York, New York 10007-1866.

FOR FURTHER INFORMATION CONTACT: Stephanie Vaughn, Remedial Project Manager, U.S. Environmental Protection Agency, Region 2, 290 Broadway, 19th Floor, New York, New York 10007-1866, phone: (212) 637-3914; fax: (212) 637-4393; e-mail: vaughn.stephanie@epa.gov.

SUPPLEMENTARY INFORMATION: For additional information, see the Direct Final Notice of Deletion which is located in the rules section of this Federal Register.

Authority: 42 U.S.C. 9601-9657; 33 U.S.C. 1321(c)(2); E.O.S 12777, 56 FR 54757, 3 CFR, 1991 Comp., p. 351; E.O. 12580, 52 FR 2923, 3 CFR, 1987 Comp., p. 193.

Dated: June 10, 2004.
Anthony Cancro,
Acting Regional Administrator—Region 2.

[FR Doc. 04-14217 Filed 6-23-04; 8:45 am]

BILLING CODE 6560-50-P